DEPARTMENT OF DEFENSE

Department of the Army; Corps of Engineers

Notice of Intent To Prepare a Draft Environmental Impact Statement (DEIS) for the Nourishment of 7.25 Miles of Beach, the Repositioning of the New River Inlet Channel, and the Implementation of an Inlet Management Plan, in North Topsail Beach, Onslow County, NC

AGENCY: Department of the Army, U.S. Army Corps of Engineers, DoD.

ACTION: Notice of Intent.

SUMMARY: The U.S. Army Corps of Engineers (COE), Wilmington District, Wilmington Regulatory Field Office has received an amendment to the request for Department of the Army authorization, pursuant to Section 404 of the Clean Water Act and Section 10 of the Rivers and Harbors Act, from the town of North Topsail Beach to nourish approximately 7.25 miles of shoreline. The modification will include an additional 3.85 miles of beachfront to protect residential homes and town infrastructures located along the south section of the Town limits. The proposed sources of material for the addition will be dredged from the same offshore borrow area as described in the original 7.25 mile plan. The placement of beach fill along the Town's southern shoreline would result in the initial widening of the beach 75 to 1590 feet seaward, depending on the final design volume and foreshore slopes that the fill assumes during construction.

The 3.85 miles of shoreline are located at the southern end of North Topsail Beach. Unlike the original 7.25 miles of proposed nourishment, the additional section is outside the Coastal Barrier Resource System (CBRS) designation; therefore, it is not subject to the expenditure of Federal funding restrictions associated with the Coastal Barrier Resource Act of 1982 and the coastal Barrier Improvement Act of 1990. This south section, or stretch, of shoreline is currently being considered by the U.S. Army Corps of Engineers for a federal shoreline protection project. Due to delays to complete the federal plan formulation process, the North Topsail Beach Board of Alderman voted to include the 3.85 mile section in the non-federal 7.25 mile section that is currently under review pursuant to the Environmental Impact Statement (EIS) procedures. The decision to include the south section in the present EIS process is intended to act as interim or emergency beach fill by preserving existing development and infrastructure along the 3.85 miles of shoreline while the federal plan formulation continues.

The original Notice of Intent was published on May 19, 2005 (70 FR 28924) with a commenting deadline of June 21, 2005.

DATES: Written comments for this project amendment or modification must be provided by November 10, 2006.

ADDRESSES: Copies of comments and questions regarding the inclusion of the additional 3.85 miles of nourishment may be addressed to: U.S. Army Corps of Engineers, Wilmington District, Regulatory Division. Attn: File Number 2004-344-067, Post Office Box 1890, Wilmington, NC 28402-1890.

FOR FURTHER INFORMATION CONTACT: Questions about the proposed amendment and DEIS can be directed to Mr. Mickey Sugg, Wilmington Regulatory Field Office, telephone: (910) 251-4811.

SUPPLEMENTARY INFORMATION: 1. Project Description. The formulation of the federal storm damage reduction project for the southern 3.85 miles of North Topsail Beach by the Corps of Engineers is based on the condition of the shoreline that existed in 2002. Corps of Engineers guidance for the design of the emergency beach fill in the South Section indicated that the volume of material should be based on: (1) Restoring the 2002 shoreline condition and (2) providing advanced nourishment sufficient to maintain the 2002 shoreline condition until the federal storm damage reduction project is implemented (estimated timeframe 6 to 8 years). The volume of material necessary to achieve the project objective will range between 500,000 and 1,000,000 cubic years. The material would be distributed along the 3.85 mile shoreline in the form of a horizontal beach berm at elevation +7.0 NGVD (National Geodetic Vertical Datum). The berm would begin near the seaward toe of the existing dune system and would extend 75 to 150 feet seaward depending on the final design volume and foreshore slopes that the fill assumes during construction.

2. Proposed Action. The scope of activities for the proposed emergency beach fill project includes: (a) Additional vibracores in the borrow area, (b) side scan sonar surveys of the ocean bottom just offshore of the South Section, (c) in-water investigations of potential near shore hard bottom resources identified by the side scan sonar survey, and (d) beach profile surveys. The boundaries of the borrow area will take into consideration the location and extent of hard bottom resources identified by side scan sonar and seismic surveys and in-water observations conducted in connection with the planning and design of the northern 7.25 mile beach nourishment project. A magnetometer survey will be conducted in the borrow area. Any historically significant archaeological artifacts located by the magnetometer surveys and verified through field investigations will be avoided. A final compatibility analysis of the material in the borrow area with the native beach material will be performed following the refinement of the boundaries of the borrow area.

3. Issues. There are several potential environmental issues that will be addressed in the EIS. Issues initially identified as potentially significant include:

a. Potential impact to marine biological resources (benthic organisms, passageway for fish and other marine life) and Essential fish Habitat, particularly Hard Bottoms.

b. Potential impact to threatened and endangered marine mammals, birds, fish, and plants.

c. Potential impacts to water quality.

d. Potential increase in erosion rats to adjacent Onslow Beach.

e. Potential effects on military training on U.S. Marine Corps Camp Lejeune Base.

f. Potential impacts to Navigation, commercial and recreational.

g. Potential impacts to the long-term management of New River Inlet.

h. Potential impacts to private and public property.

i. Cumulative impacts of Inlet and Inlet channel relocations throughout North Carolina.

j. Cumulative impacts for using inlets as sand source in nourishment projects.

k. Potential impacts on public health and safety.

l. Potential impacts to recreational and commercial fishing.

m. The compatibility of the material for nourishment.

n. Potential economic impacts.

4. Alternatives. Several alternatives, including various borrow areas, are being considered for the 11.1 miles of shoreline. These alternatives are being further formulated and developed during the scoping process and an appropriate range of alternatives, including the no federal action alternative, will be considered in the EIS.

5. Scoping Process. A public scoping meeting was held on June 7, 2005, and Project Delivery Team (PDT) meetings are continuing on a periodic basis. The release of the Draft EIS is expected sometime in early 2007.

The COE will also be consulting with the U.S. Fish and Wildlife Service under the Endangered Species Act and the Fish and Wildlife Coordination Act, and with the National Marine Fisheries Service under the Magnuson-Stevens Act and Endangered Species Act. Additionally, the EIS will assess the potential water quality impacts pursuant to Section 401 of the Clean Water Act, and will be coordinated with the North Carolina Division of Coastal Management (DCM) to determine the projects consistency with the Coastal Zone Management Act. The COE will closely work with DCM through the EIS to ensure the process complies with all State Environmental Policy Act (SEPA) requirements. It is the COE and DCM's intentions to consolidate both NEPA and SEPA processes to eliminate duplications.

6. Availability of the Draft EIS. The Draft EIS is expected to be published and circulated sometime in early 2007, and a public hearing will be held after the publication of the Draft EIS.

Dated: October 6, 2006.
John E. Pulliam, Jr.,
Colonel, U.S. Army, District Commander.

[FR Doc. 06-8562 Filed 10-6-06; 8:45 am

BILLING CODE 3710-GN-M